DEPARTMENT OF THE INTERIOR

National Park Service

Golden Gate National Recreation Area; Correction to Notice of Proposed Year-Round Closure at Fort Funston and Request for Comments

CORRECTION: Public comments on this notice must be received by September 18, 2000.

Dated: July 17, 2000.
Donald Mannel,
Acting Superintendent, GGNRA.

[FR Doc. 00-18842 Filed 7-25-00; 8:45 am]

BILLING CODE 4310-70-M